DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of persons whose property and interests in property are being unblocked and removed from the List of Specially Designated Nationals and Blocked Persons (SDN List).

DATES: The unblocking of property and interests in property and the removal of the individuals identified in this Notice from the SDN List is effective on the date of publication in the Federal Register.

FOR FURTHER INFORMATION CONTACT: OFAC: Associate Director for Global Targeting, 202-622-2420; Assistant Director for Licensing, 202-622-2480; the Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Actions

On May 28, 2003, the individuals listed below were included in the Annex to Executive Order (E.O.) 13304 of May 28, 2003, “Termination of Emergencies With Respect to Yugoslavia and Modification of Executive Order 13219 of June 26, 2001” and added to the SDN List. On May 28, 2025, OFAC determined that circumstances no longer warrant the inclusion of the following persons on the SDN List under this authority and that that they should be removed from the SDN List:

Individuals:

1. MILUTINOVIC, Milan; DOB 19 Dec 1942; POB Belgrade, Serbia and Montenegro; ex-President of Republika Srpska; ICTY indictee in custody (individual) [BALKANS].

2. SUBOTIC, Bogdan; DOB 25 Apr 1941; POB Bosanska Gradiska, Bosnia-Herzegovina (individual) [BALKANS].

Lisa M. Palluconi,
Acting Director, Office of Foreign Assets Control.

[FR Doc. 2025-11716 Filed 6-24-25; 8:45 am]

BILLING CODE 4810-AL-P